DEPARTMENT OF TRANSPORTATION

Federal Aviation Administration

14 CFR Part 71

[Docket No. FAA-2004-17163; Airspace Docket No. 04-AGL-10]

Modification of Class D Airspace; Rochester, MN; Modification of Class E Airspace; Rochester, MN

Correction

In rule document 04-19375 beginning on page 51944 in the issue of Tuesday, August 24, 2004 make the following correction:

§ 71.1 [Corrected]

On page 51944, in the third column, in § 71.1, under the heading AGL MN D Rochester, MN [Revised], in the first line, “NM” should read, “MN”.

[FR Doc. C4-19375 Filed 9-2-04; 8:45 am]

BILLING CODE 1505-01-D